DEPARTMENT OF TRANSPORTATION

Federal Aviation Administration

14 CFR Part 39

[Docket No. FAA-2015-0669; Directorate Identifier 2013-SW-038-AD]

RIN 2120-AA64

Airworthiness Directives; Airbus Helicopters Deutschland GmbH (Previously Eurocopter Deutschland GmbH) Helicopters

AGENCY: Federal Aviation Administration (FAA), DOT.

ACTION: Notice of proposed rulemaking (NPRM).

SUMMARY: We propose to adopt a new airworthiness directive (AD) for Airbus Helicopters Deutschland GmbH (AHD) (previously Eurocopter Deutschland GmbH) Model MBB-BK 117 A-1, A-3, A-4, B-1, B-2, C-1, and C-2 helicopters. This proposed AD would require an initial and recurring inspection of the N2 control arm and, depending on the outcome of the inspection, repairing or replacing the N2 control arm. This proposed AD is prompted by a report of a heavily corroded and broken N2 control arm. The proposed actions are intended to detect corrosion, a crack, or a scratch in the N2 control arm, which could lead to failure of the N2 control arm, a drop in rotor speed, and subsequent loss of control of the helicopter.

DATES: We must receive comments on this proposed AD by May 26, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137. It is also available on the Internet at http://www.regulations.gov by searching for and locating Docket No. FAA-2015-0669.

FOR FURTHER INFORMATION CONTACT: James Blyn, Aviation Safety Engineer, Regulations and Policy Group, Rotorcraft Directorate, FAA, 2601 Meacham Blvd., Fort Worth, Texas 76137; telephone (817) 222-5110; email james.blyn@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, issued EASA AD No. 2013-0154, dated July 22, 2013, to correct an unsafe condition for Eurocopter Deutschland GmbH (now AHD) Model MBB-BK117 A-1, A-3, A-4, B-1, B-2, C-1, and C-2 helicopters. EASA advises of an incident with a Model MBB-BK117 C-2 helicopter that dropped rotor speed (RPM) within the green range and could not be recovered to nominal value. According to EASA, an inspection of the engine N2 control system revealed a heavily corroded and broken N2 control arm. EASA advises that under certain flight conditions and power demands, a broken N2 control arm can cause a significant and non-recoverable drop in RPM. As a result, EASA AD No. 2013-0154 requires an initial and repetitive inspection of the N2 control arm for corrosion, damage, and scratches, and depending on the outcome of the inspection, repairing or replacing the N2 control arm.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information Under 1 CFR part 51

Eurocopter issued Alert Service Bulletin (ASB) MBB-BK117-60A-126 for Model MBB-BK 117 A-1, A-3, A-4, B-1, B-2, and C-1 helicopters, and ASB MBB-BK117 C-2-6A-005 for Model MBB-BK 117 C-2 helicopters, both Revision 0, and both dated June 24, 2013. The Eurocopter ASBs specify inspecting the N2 control arm for corrosion, damage, and scratches and, depending on the outcome of the inspection, either repairing or replacing the affected parts. The Eurocopter ASBs also specify performing the inspection with each 12-month inspection until the N2 inspection requirements are incorporated into the aircraft maintenance manual. This service information is reasonably available; see ADDRESSES for ways to access this service information.

Proposed AD Requirements

This proposed AD would require repetitive visual inspections of the N2 control arm for corrosion, a crack, or a scratch. This proposed AD would require repairing any N2 control arm with corrosion or a scratch less than 0.020 inch in depth and replacing any N2 control arm with exfoliation corrosion, a crack, or with corrosion or a scratch 0.020 inch or greater in depth.

Differences Between This Proposed AD and the EASA AD

The EASA AD allows a noncumulative tolerance of 3 months in the compliance time for the initial inspection on helicopters with less than 2 years from the date of first flight and for the repetitive inspections, and this proposed AD would not.

Costs of Compliance

We estimate that this proposed AD would affect 441 helicopters of U.S. Registry. We estimate that operators may incur the following costs in order to comply with this AD. Labor costs are estimated at $85 per work-hour. Inspecting the N2 control arm would require about one work-hour for an estimated cost of $85 per helicopter and $37,485 for the U.S. fleet per inspection cycle. Repairing the N2 control arm would require about four work-hours for an estimated labor cost of $340. Replacing the N2 control arm would require about three work-hours for an estimated labor cost of $255. Parts to replace the N2 control arm for Model MBB-BK 117 A-1, A-3, A-4, B-1, B-2, and C-1 helicopters would cost about $2,743 for a total estimated cost of $2,998. Parts to replace the N2 control arm for a Model MBB-BK 117 C-2 helicopter would cost about $4,500 for a total estimated cost of $4,755.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters Deutschland GmbH (AHD) (Previously Eurocopter Deutschland GmbH): Docket No. FAA-2015-0669; Directorate Identifier 2013-SW-038-AD.

(a) Applicability

This AD applies to AHD Model MBB-BK 117 A-1, A-3, A-4, B-1, B-2, C-1, and C-2 helicopters, certificated in any category.

(b) Unsafe Condition

This AD defines the unsafe condition as corrosion, a crack, or a scratch on an N2 control arm. This condition could lead to failure of the N2 control arm, resulting in a reduction in rotor speed and subsequent loss of control of the helicopter.

(c) Comments Due Date

We must receive comments by May 26, 2015.

(d) Compliance

You are responsible for performing each action required by this AD within the specified compliance time unless it has already been accomplished prior to that time.

(e) Required Actions

For helicopters that have not reached 2 years from the date of first flight, within 1 year or before reaching 2 years from the date of first flight, whichever occurs first; and for helicopters that have reached or exceeded 2 years from the date of first flight, within 50 hours TIS:

(1) Visually inspect each N2 control arm for corrosion, a crack, and a scratch as depicted in Figure 1 of Eurocopter Alert Service Bulletin (ASB) MBB-BK117-60A-126 or ASB MBB-BK117 C-2-76A-005, both Revision 0 and both dated June 24, 2013, as applicable to your model helicopter.

(i) If an N2 control arm has corrosion or a scratch less than 0.5 millimeter (mm) (0.020 inch) in depth, before further flight, remove the corrosion and repair the scratch.

(ii) If an N2 control arm has any exfoliation corrosion, a crack, or has corrosion or a scratch 0.5 mm (0.020 inch) or greater in depth, before further flight, replace the N2 control arm.

(2) Thereafter, perform the requirements in paragraph (e)(1) of this AD at intervals not to exceed 12 months.

(f) Alternative Methods of Compliance (AMOCs)

(1) The Manager, Safety Management Group, FAA, may approve AMOCs for this AD. Send your proposal to: James Blyn, Aviation Safety Engineer, Regulations and Policy Group, Rotorcraft Directorate, FAA, 2601 Meacham Blvd., Fort Worth, Texas 76137; telephone (817) 222-5110; email james.blyn@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2013-0154, dated July 22, 2013. You may view the EASA AD on the Internet at http://www.regulations.gov in Docket No.FAA-2015-0669.

(h) Subject

Joint Aircraft Service Component (JASC) Code: Engine Controls, 7600.

Issued in Fort Worth, Texas, on March 17, 2015.
Lance T. Gant,
Acting Directorate Manager, Rotorcraft Directorate, Aircraft Certification Service.

[FR Doc. 2015-06567 Filed 3-23-15; 8:45 am]

BILLING CODE 4910-13-P